OVERSEAS PRIVATE INVESTMENT CORPORATION

Submission for OMB Review; Comments Request

AGENCY: Overseas Private Investment Corporation (OPIC).

ACTION: Notice and request for comments.

SUMMARY: Under the provisions of the Paperwork Reduction Act (44 U.S.C. Chapter 35), agencies are required to publish a Notice in the Federal Register notifying the public that the agency has prepared an information collection for OMB review and approval and has requested public review and comment on the submission. Comments are being solicited on the need for the information; the accuracy of the Agency's burden estimate; the quality, practical utility, and clarity of the information to be collected; and ways to minimize reporting the burden, including automated collected techniques and uses of other forms of technology.

DATES: Comments must be received within 60 calendar-days of publication of this Notice.

ADDRESSES: Direct comments and requests for copies of the subject form to the Agency Submitting Officer: Essie Bryant, Records Manager, Overseas Private Investment Corporation, 1100 New York Avenue NW., Washington, DC 20527.

FOR FURTHER INFORMATION CONTACT: Agency Submitting Officer: Essie Bryant, Records Manager, (202) 336-8563.

Summary Form Under Review

Type of Request: New form.

Title: U.S. Effects Screening Questionnaire.

Form Number: OPIC-252.

Frequency of Use: One per investor per project (as needed) and OPIC-supported financial intermediaries (as required by finance agreement or insurance contract).

Type of Respondents: Businesses or other institutions; individuals.

Standard Industrial Classification Codes: All.

Description of Affected Public: U.S. companies or citizens investing overseas.

Reporting Hours: 200 (2 hours per form).

Number of Responses: 100 per year.

Federal Cost: $15,276.

Authority for Information Collection: Sections 231 (k)-(m) of the Foreign Assistance Act of 1961, as amended.

Abstract (Needs and Uses): The U.S. Effects Screening Questionnaire will be used to identify potential negative impacts on the U.S. economy and employment which could result from the investment. This form is submitted prior to a formal OPIC application or as required by OPIC-supported financial intermediaries. Title VI of the Foreign Assistance Act of 1961, as amended, (codified at 22 U.S.C. 2191 et seq.) prohibits OPIC from supporting investments that are likely to cause the loss of U.S. jobs, or that have performance requirements that may reduce substantially the positive trade benefits likely to accrue to the U.S. from the investment.

Dated: August 22, 2014.
Nichole Cadiente,
Administrative Counsel, Department of Legal Affairs.

[FR Doc. 2014-20445 Filed 8-27-14; 8:45 am]

BILLING CODE M